DEPARTMENT OF EDUCATION

Final Waiver and Extension of the Project Period; Training and Advisory Services—Equity Assistance Centers Program

AGENCY: Office of Elementary and Secondary Education, Department of Education.

ACTION: Final waiver and extension of the project period.

SUMMARY: For the 36-month projects funded in fiscal year (FY) 2011 under the Training and Advisory Services—Equity Assistance Centers (EACs) program, the Secretary waives the requirements that generally prohibit project period extensions involving the obligation of additional Federal funds. The Secretary also extends the project period of these grants for up to an additional 24 months. This enables the 10 current grantees under the EACs program to continue to receive Federal funding annually for project periods through FY 2015 and possibly through FY 2016. Further, the waiver and extension of the project period mean that we will not announce a new competition or make new awards in FY 2014.

DATES: The waiver and extension of the project period are effective August 8, 2014.

FOR FURTHER INFORMATION CONTACT: Jenelle V. Leonard, U.S. Department of Education, 400 Maryland Avenue SW., Room 3W203, Washington, DC 20202-6400. Telephone: (202) 401.0039 or by email: EACcomments@ed.gov.

If you use a telecommunications device for the deaf (TDD) or a text telephone (TTY), call the Federal Relay Service (FRS), toll free, at 1-800-877-8339.

SUPPLEMENTARY INFORMATION: On April 28, 2014, we published a notice in the Federal Register (79 FR 23335) proposing an extension of the project period and waiver of 34 CFR 75.261(a) and (c)(2), which restricts project period extensions involving the obligation of additional Federal funds, as it relates to the 10 current EACs program grantees (April 2014 proposed waiver).

Public Comment

In the April 2014 proposed waiver, the Secretary invited comments on the proposed waiver and extension of the project period. We received 49 comments in response.

Analysis of Comments and Changes

An analysis of the comments received in response to the April 2014 proposed waiver follows.

Comment: The commenters expressed support for the proposed waiver and extension of the project period. Specifically, commenters supported building upon current services, sustaining the work of the grant program, maintaining continuity of high-quality services, and leveraging technical assistance resources. Commenters did not want to see a disruption or decrease in services provided to clients. One commenter stated that the disruption of services provided by the EACs would impede progress and prevent clients from receiving the help needed. Commenters also noted that the Centers are essential, serve as a valuable resource, and are a worthwhile investment by the Department. No negative comments were received.

Discussion: We appreciate the commenters' support and note the importance of the assistance provided by the EACs to school boards and other governmental agencies responsible for the preparation, adoption, and implementation of plans for the desegregation of public schools and the development of effective methods of coping with unique educational problems occasioned by desegregation. We agree that it is important that there not be a lapse in the services provided by the Centers.

Change: None.

Background

The EACs program awards grants through cooperative agreements to eligible entities to operate 10 regional EACs. The EACs provide technical assistance and training at the request of school boards and other governmental agencies responsible for the preparation, adoption, and implementation of plans for the desegregation of public schools and the development of effective methods of coping with unique educational problems occasioned by desegregation. In this context, “desegregation” or “equity” refers to segregation based on race, sex, or national origin. The EACs (formerly the Desegregation Assistance Centers) assist States, districts, and public schools in providing effective instruction to all students and specifically to those students for whom disparities in achievement persist.

The EACs are authorized by title IV of the Civil Rights Act of 1964 (42 U.S.C. 2000c) and operate under the implementing regulations at 34 CFR parts 270 and 272. These regulations identify, among other components of the program, the 10 regions to be served by the EACs, eligible recipients of EAC assistance, the criteria used to make a grant, how the amount of the grant is determined, and the conditions that must be met by the grant recipient.

The geographic regions served by the EACs are:

Region I: Connecticut, Maine, Massachusetts, New Hampshire, Rhode Island, and Vermont.

Region II: New Jersey, New York, Puerto Rico, and the Virgin Islands.

Region III: Delaware, District of Columbia, Maryland, Pennsylvania, Virginia, and West Virginia.

Region IV: Alabama, Florida, Georgia, Kentucky, Mississippi, North Carolina, South Carolina, and Tennessee.

Region V: Illinois, Indiana, Michigan, Minnesota, Ohio, and Wisconsin.

Region VI: Arkansas, Louisiana, New Mexico, Oklahoma, and Texas.

Region VII: Iowa, Kansas, Missouri, and Nebraska.

Region VIII: Colorado, Montana, North Dakota, South Dakota, Utah, and Wyoming.

Region IX: Arizona, California, and Nevada.

Region X: Alaska, American Samoa, Guam, Hawaii, Idaho, Northern Mariana Islands, Oregon, The Federated States of Micronesia, The Republic of the Marshall Islands, The Republic of Palau, and Washington.

On March 10, 2011, we published in the Federal Register (76 FR 13137) a notice inviting applications for new awards under the FY 2011 EACs program competition (2011 EAC NIA). In FY 2011, the Department made new awards to 10 EAC projects. The three-year project period for these EACs is currently scheduled to end on September 30, 2014.

For those EACs, the Secretary waives the requirements in 34 CFR 75.261(a) and (c)(2), which prohibits the extension of project periods involving the obligation of additional Federal funds, and extends the project period for the current EACs for up to 24 months. This will allow the 10 current EAC grantees to continue to receive Federal funding through FY 2015 and possibly through FY 2016.

We are waiving the requirements in 34 CFR 75.261(a) and (c)(2) and extending the project period for the current EAC grantees. Based on the grantees' performance, public comments, and a 2013 survey of EAC clients conducted by the Federal Research Division of the Library of Congress in which 94 percent of the respondents rated the quality of the EAC products and services they received during the 2012-2013 school year as “high” or “very high,” we have concluded that the existing EACs are providing high-quality services. Therefore, it would not be in the public interest to incur the disruption in services associated with holding a new EACs competition in FY 2014. It would be more effective to maintain continuity of the high-quality services offered by these grantees to their clients rather than transition to new grantees only three years after the FY 2011 awards. These services include disseminating information on successful education practices and legal requirements related to nondiscrimination on the basis of race, sex, and national origin in educational programs; training designed to develop educators' skills in specific areas such as identification of race and sex bias in instructional materials; technical assistance in the identification and selection of appropriate educational programs to meet the needs of limited English proficient students; addressing disproportionality in schools among students and teachers; and instructing school officials on how to prevent sexual harassment and combat biases. In addition, issuing continuation awards, instead of holding a new competition, will allow the current grantees to continue to serve as a resource for the Department's Office for Civil Rights in working with school districts that have achieved unitary status (i.e., school district(s) released from court-ordered desegregation obligations). The grantees will continue to offer technical assistance to school districts, State educational agencies, and others who seek to resolve civil rights conflicts and promote social justice and equity. Further, the current grantees will continue to provide resources and training in the areas of hate crimes, racial prejudice, and bullying.

We will fund the extended project period using FY 2014 funds. In addition, we may also extend the project period for a second year, using FY 2015 funds that Congress appropriates under the current statutory authority.

Under this waiver and extension of the project period—

(1) Current grantees will be authorized to receive EAC continuation awards annually for up to an additional two years.

(2) We will not announce a new EAC competition or make new EAC grant awards in FY 2014 and possibly in FY 2015.

(3) During the extension period, any activities carried out must be consistent with, or be a logical extension of the scope, goals, and objectives of each grantee's approved application from the 2011 EAC competition.

(4) Each grantee that receives a continuation award must also continue to comply with the requirements established in the program regulations and the 2011 EAC NIA.

(5) All requirements applicable to continuation awards for current EAC grantees and the requirements in 34 CFR 75.253 will apply to any continuation awards received by current EAC grantees, i.e., each grantee must demonstrate substantial progress performing its approved grant activities, as evidenced through program narratives, budgets and budget narratives, and performance reports.

Regulatory Flexibility Act Certification

The Secretary certifies that the waiver and extension and the activities required to support additional years of funding will not have a significant economic impact on a substantial number of small entities. The entities that will be affected by this proposed waiver and extension of the project period are the 10 current EAC grantees receiving Federal funds and any other potential applicants.

The Secretary certifies that the waiver and extension will not have a significant economic impact on these entities because the waiver and extension impose minimal compliance costs to extend projects already in existence, and the activities required to support the additional years of funding will not impose additional regulatory burdens or require unnecessary Federal supervision.

Paperwork Reduction Act of 1995

This proposed waiver and extension does not contain any information collection requirements.

Intergovernmental Review

This program is subject to Executive Order 12372 and the regulations in 34 CFR part 79. One of the objectives of the Executive order is to foster an intergovernmental partnership and strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: www.federalregister.gov. Specifically, through the advanced search feature at this site, you can limit your search to documents published by the Department.

Program Authority: 42 U.S.C. 2000c-2000c-2, 2000c-5.

Dated: August 5, 2014.
Deborah S. Delisle,
Assistant Secretary for Elementary and Secondary Education.

[FR Doc. 2014-18789 Filed 8-7-14; 8:45 am]

BILLING CODE 4000-01-P